DEPARTMENT OF HEALTH AND HUMAN SERVICES

Substance Abuse and Mental Health Services Administration

Correction of Application Deadline for the Grant Program, Targeted Capacity Expansion: Meeting the Mental Health Services Needs of Older Adults (SM 02-009)

AGENCY: Substance Abuse and Mental Health Services Administration (SAMHSA), DHHS.

ACTION: Correction of Application Deadline for the grant program, Targeted Capacity Expansion: Meeting the Mental Health Services Needs of Older Adults (SM 02-009).

SUMMARY: This notice is to inform the public that the application deadline published on April 23, 2002, for the grant program, Targeted Capacity Expansion: Meeting the Mental Health Services Needs of Older Adults (SM 02-009), is incorrect. The correct application deadline is June 19, 2002.

Program Contact: For questions about the due date for this program or other program issues relating to this program, contact: Betsy McDonel Herr, Ph.D., Social Science Analyst, Center for Mental Health Services, SAMHSA, Room 11C-22, 5600 Fishers Lane, Rockville, MD 20857, (301) 594-2197, (301) 443-0541 (FAX) E-mail: bmcdone1@samhsa.gov.

Dated: April 25, 2002.
Richard Kopanda,
Executive Officer, SAMHSA.

[FR Doc. 02-10709 Filed 4-30-02; 8:45 am]

BILLING CODE 4162-20-M